DEPARTMENT OF AGRICULTURE

Office of Advocacy and Outreach; Beginning Farmers and Ranchers Advisory Committee

AGENCY: Office of Advocacy and Outreach, USDA.

ACTION: Notice of Public Meeting

SUMMARY: Pursuant to the Federal Advisory Committee Act, the Office of Advocacy and Outreach (OAO) is announcing a meeting of the Beginning Farmers and Ranchers Advisory Committee. The Committee is being convened to discuss matters of importance for beginning farmers and ranchers.

DATES: The Beginning Farmers and Ranchers Advisory Committee meeting will be held on June 22-23, 2014, from 9:00 a.m.-5:00 p.m. There will be time allotted at the end of each day from 4:00-4:30 p.m. for public comments. All persons wishing to make comments during this meeting must check in between 8:00 a.m. and 9:00 a.m. on both days at the registration table. All public commenters will be given a minimum of three minutes. If the number of registrants requesting to speak is greater than what can be reasonably accommodated during the scheduled open public hearing session timeframe, a lottery will be implemented to determine the speakers for the scheduled open public comment session.

ADDRESSES: This public advisory committee meeting will be held at the Robert and Margrit Mondavi Center for the Performing Arts in the Vanderhoef Studio Theatre, located at the University of California at Davis (UC Davis), One Shields Avenue, Davis, CA 95616. The Mondavi Center (as distinguished from the Mondavi Institute) is located on the south east portion of the UC Davis campus. Parking is available south of the building for $8. There is also a short-term drop-off area directly in front of the entrance. Specific driving instructions with GPS coordinates and a map will be posted to Committee's Web site at: http://www.outreach.usda.gov/smallbeginning/index.htm in advance of the meeting. There will be signs in the main lobby of the Mondavi Center directing attendees to the Vanderhoef Studio Theatre.

A listen-only conference call line will be available from 9:00 a.m. through 5:00 p.m. PST each day for all who wish to listen in on the proceeding through the following telephone number: (888) 790-3439 and enter passcode 1668669.

FOR FURTHER INFORMATION CONTACT: Questions should be directed to Phyllis Morgan, Executive Assistant, OAO, 1400 Independence Ave. SW., Whitten Bldg., 520-A, Washington, DC 20250, Phone: 202-720-6350, Fax: 202-720-7136, email: Phyllis.Morgan@osec.usda.gov.

Public written comments for the Committee's consideration may be submitted, by COB June 16, 2014, to Mrs. Kenya Nicholas, Designated Federal Official, USDA OAO, 1400 Independence Avenue, Room 520-A, Washington, DC 20250-0170, Phone (202) 720-6350, Fax (202) 720-7136, Email: kenya.nicholas@osec.usda.gov.

SUPPLEMENTARY INFORMATION: Background: The Committee was established pursuant to Section 5 of the Agricultural Credit Improvement Act of 1992. The Farm Service Agency had original authority and oversight of the Committee until it was transferred to OAO under the 2008 Farm Bill. The Secretary of Agriculture selected a diverse group of members representing a broad spectrum of persons interested in providing solutions to the challenges of new farmers and ranchers. During the meeting, the Committee will be asked to consider the efficiency and value of programs and policies of the Department's programs affecting new farmers and ranchers. The agencies tasked with implementing these programs and policies include, but is not limited to, the Farm Service Agency, Rural Development, Risk Management Agency, and Natural Resource Conservation Service. Representatives from these agencies will give updates on existing policies and programs that are specifically geared toward the development and assistance for new farmers and ranchers. Please visit our Web site at: http://www.outreach.usda.gov/smallbeginning/index.htm for additional information on the advisory committee and the public meeting.

Register for the Meeting: The public is asked to pre-register for the meeting at least 10 business days prior to the meeting. You may pre-register by submitting an email to ACBFR@osec.usda.gov with your name, organization or affiliation, comments, or questions for the Committee's consideration. You may also fax this information to 202-720-7136. Members of the public who request to give comments to the Committee must arrive between 8:00 a.m. and 9:00 a.m. on either day of the meeting and register (confirm) at the check-in table.

Availability of Materials for the Meeting: Please visit the Beginning Farmers and Ranchers Web site for the full agenda. All agenda topics and documents will be made available to the public at: http://www.outreach.usda.gov/smallbeginning/index.htm. Copies of the agenda will also be distributed at the meeting.

Meeting Accommodations: USDA is committed to ensuring that everyone is accommodated in our work environment, programs and events. If you are a person with a disability and request reasonable accommodations to participate in this meeting, please note the request in your registration and you may contact Mrs. Kenya Nicholas in advance of the meeting by or before COB June 16, 2014.

Issued at Washington, DC, this day of June, 2014.
Carolyn C. Parker,
Director, Office of Advocacy and Outreach.

[FR Doc. 2014-13033 Filed 6-4-14; 8:45 am]

BILLING CODE P